DEPARTMENT OF COMMERCE

International Trade Administration

Announcement of Performance Review Board Members

AGENCY: International Trade Administration, Department of Commerce.

ACTION: Notice of Performance Review Board Membership.

SUMMARY: 5 CFR 430.310 requires agencies to publish notice of Performance Review Board appointees in the Federal Register before their service begins. This notice announces the names of new and existing members of the International Trade Administration's Performance Review Board.

DATES: Effective Date: The effective date of service of appointees to the International Trade Administration Performance Review Board is upon publication of this notice.

FOR FURTHER INFORMATION CONTACT: Heidi K. Smith, Department of Commerce Human Resources Operations Center (DOCHROC), Office of Executive Resources Operations, 14th and Constitution Avenue, NW., Room 5015A, Washington, DC 20230, at (202) 482-1261.

SUPPLEMENTARY INFORMATION: The purpose of the Performance Review Board is to review and make recommendations to the appointing authority on performance management issues such as appraisals, bonuses, pay level increases, and Presidential Rank Awards for members of the Senior Executive Service. The term of the new members of the ITA PRB will expire after two years in December 31, 2010. The Under Secretary for International Trade, Christopher A. Padilla, has named the following members of the International Trade Administration Performance Review Board:

1. Patricia A. Sefcik, Senior Director for Manufacturing, Chairperson (new 2-year term).

2. Susan H. Kuhbach, Senior Director, Import Administration (new).

3. Walter M. Bastian, Deputy Assistant Secretary for Western Hemisphere, Market Access and Compliance (new).

4. Stacey B. Silva, Executive Director for Trade Promotion and Outreach.

5. Ronald A. Glaser, Deputy Director for Administration and Director for Strategic Resources (At-Large).

6. Jamie P. Estrada, Deputy Assistant Secretary for Manufacturing and Services (At-Large).

7. Roxie J. Jones, Office of General Counsel, Department of Commerce (Outside Reviewer).

Dated: October 14, 2008.
Deborah A. Martin,
Director, Office of Executive Resources Operations, Department of Commerce Human Resources Operations Center.

[FR Doc. E8-24834 Filed 10-17-08; 8:45 am]

BILLING CODE 3510-BS-P